DEPARTMENT OF FEDERAL ELECTION COMMISSION

Sunshine Act Meeting

Date and Time: Tuesday, October 18, 2005 at 10 a.m.

Place: 999 E Street, NW., Washington, DC.

Status: This meeting will be closed to the public.

Items To Be Discussed: Compliance matters pursuant to 2 U.S.C. 437g.

Audits conducted pursuant to 2 U.S.C. 437g, 438(b), and Title 26, U.S.C. Matters concerning participation in civil actions or proceedings or arbitration. Internal personnel rules and procedures or matters affecting a particular employee.

* * * * *

Note: The open meeting has been changed to Wednesday, October 19, 2005.

Date and Time: Wednesday, October 19, 2005, at 10 a.m.

Place: 999 E Street, NW., Washington, DC (ninth floor).

Status: This meeting will be open to the public.

Items To Be Discussed: Correction and Approval of Minutes.

Advisory Opinion 2005-13: EMILY's List, by counsel Robert F. Bauer and Judith L. Corley.

Advisory Opinion 2005-14: Association of Kentucky Fried Chicken Franchisees, Inc. (“AKFCF”) and AKFCF Political Action Committee, by counsel Andrew C. Selden and Neal T. Buethe.

Advisory Opinion 2005-15: Republican State Executive Committee of West Virginia, by its treasurer Scott D. Reed. Routine Administrative Matters.

Date and Time: Thursday, October 20, 2005, at 9:30 a.m.

Place: 999 E Street, NW., Washington, DC (ninth floor)

Status: This hearing will be open to the public.

Matter Before the Commission: Electioneering Communications.

Person to Contact for Information: Mr. Robert Biersack; Press Officer; Telephone: (202) 694-1220.

Mary W. Dove,
Secretary of the Commission.

[FR Doc. 05-20637 Filed 10-11-05; 3:14 pm]

BILLING CODE 6715-01-M